DEPARTMENT OF COMMERCE

National Oceanic and Atmospheric Administration

50 CFR Part 660

[Docket No. 250409-0062]

RIN 0648-BN47

Magnuson-Stevens Act Provisions; Fisheries off West Coast States; Pacific Coast Groundfish Fishery; 2025 Pacific Whiting Tribal Allocation and 2025 Incidental Set-Aside

AGENCY: National Marine Fisheries Service (NMFS), National Oceanic and Atmospheric Administration (NOAA), Commerce.

ACTION: Proposed rule; request for comments.

SUMMARY: NMFS issues this proposed rule to establish the 2025 Tribal allocation of Pacific whiting and set-aside of Pacific whiting for research and incidental mortality in non-groundfish fisheries. The proposed measures are intended to help prevent overfishing, achieve optimum yield, ensure that management measures are based on the best scientific information available, and provide for the implementation of Tribal treaty fishing rights.

DATES: Comments on this proposed rule must be received no later than April 30, 2025.

ADDRESSES: A plain language summary of this proposed rule is available at https://www.regulations.gov/docket/NOAA-NMFS-2025-0002. You may submit comments on this document, identified by NOAA-NMFS-2025-0002, by any of the following methods:

Electronic Submission: Submit all electronic public comments via the Federal e-Rulemaking Portal. Visit https://www.regulations.gov and type “NOAA-NMFS-2025-0002” in the Search box. Click on the “Comment” icon, complete the required fields, and enter or attach your comments. Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Background information for this action and analytical documents for the Regulatory Flexibility Act (RFA) are available at the NMFS West Coast Region website at: https://www.fisheries.noaa.gov/action/2025-harvest-specifications-pacific-whiting-and-2025-tribal-allocation.

NEPA documents for this and other West Coast groundfish actions are also available at: https://www.fisheries.noaa.gov/west-coast/laws-and-policies/groundfish-actions-nepa-documents.

Additional background information for the Pacific Hake/Whiting Treaty can be found at: https://www.fisheries.noaa.gov/west-coast/laws-policies/pacific-hake-whiting-treaty.

FOR FURTHER INFORMATION CONTACT: Colin Sayre, phone: 206-526-4656, and email: Colin.Sayre@noaa.gov.

SUPPLEMENTARY INFORMATION:

Background

Under the authority of the Pacific Coast Groundfish Fishery Management Plan (FMP), sections 304(b) and 305(d) of the Magnuson-Stevens Fishery Conservation and Management Act, the Pacific Whiting Act of 2006, and other applicable laws, NMFS proposes to implement a Tribal Pacific whiting allocation based on a percentage of the recommended U.S. total allowable catch (TAC) of Pacific whiting and a set-aside for research and incidental mortality in non-groundfish fisheries. The Tribal and non-Tribal commercial Pacific whiting fisheries open on May 1 of each year. The Tribal and non-Tribal commercial sector allocations for Pacific whiting, as well as set-asides, would be effective until December 31, 2025.

Pacific Whiting Agreement

The transboundary stock of Pacific whiting is managed through the Agreement Between the Government of the United States of America and the Government of Canada on Pacific Hake/Whiting of 2003 (Agreement). The Agreement establishes bilateral management bodies to implement the terms of the Agreement, including the Joint Management Committee (JMC), which recommends the annual catch level for Pacific whiting.

In addition to the JMC, the Agreement establishes several other bilateral management bodies to set whiting catch levels: the Joint Technical Committee (JTC), which conducts the Pacific whiting stock assessment; the Scientific Review Group (SRG), which reviews the stock assessment; and the Advisory Panel (AP), which provides stakeholder input to the JMC.

The Agreement establishes a default harvest policy of F-40 percent, which means a fishing mortality rate that would reduce the spawning biomass of Pacific whiting to 40 percent of the estimated unfished level. The Agreement also allocates 73.88 percent of the Pacific whiting TAC to the United States and 26.12 percent of the TAC to Canada. Based on recommendations from the JTC, SRG, and AP, the JMC determines the overall Pacific whiting TAC by March 25th of each year. NMFS, under the delegation of authority from the Secretary of Commerce, in consultation with the Secretary of State, has the authority to accept or reject this recommendation. Under the Magnuson-Stevens Fishery Conservation and Management Act (MSA) and consistent with the Pacific Coast Groundfish Fishery Management Plan (FMP), NMFS allocates the recommended U.S. TAC between the Tribal sector and non-Tribal commercial sectors.

Tribal Allocation

Four Washington coastal treaty Indian Tribes—the Makah Indian Tribe, the Quileute Indian Tribe, the Quinault Indian Nation, and the Hoh Indian Tribe (collectively, the Treaty Tribes)—can participate in the Tribal Pacific whiting fishery. The regulations at 50 CFR 660.50(d) identify the procedures for implementing the treaty rights that Pacific Coast Treaty Tribes have to harvest groundfish in their usual and accustomed fishing areas in U.S. waters, including the process by which Tribes with treaty fishing rights in the area covered by the FMP request allocations, set-asides, or regulations specific to the Treaty Tribes. 50 CFR 660.50(d) provides that the Secretary will develop Tribal allocations and regulations in consultation with the affected Treaty Tribes and, insofar as possible, with Tribal agreement.

NMFS allocates a portion of the U.S. TAC of Pacific whiting to the Tribal fishery following the process established in 50 CFR 660.50(d). The Tribal allocation is subtracted from the U.S. Pacific whiting TAC before allocation to the non-Tribal sectors.

Tribal allocations of Pacific whiting have been based on discussions with the Treaty Tribes regarding their intent to fish. The Hoh Tribe has not expressed an interest in participating in the Pacific whiting fishery to date. The Quileute Tribe and the Quinault Indian Nation have expressed interest in beginning to participate in the Pacific whiting fishery at a future date. To date, only the Makah Tribe has prosecuted a Tribal fishery for Pacific whiting and has harvested Pacific whiting since 1996 using midwater trawl gear. Table 2 below provides a recent history of U.S. TACs and annual Tribal allocation in metric tons (mt).

Table 2—U.S. Total Allowable Catch and Annual Tribal Allocation in Metric Tons for 2015-2024 (mt)
Year | U.S. TAC | Tribal allocation
2015 | 325,072 mt | 56,888 mt.
2016 | 367,553 mt | 64,322 mt.
2017 | 441,433 mt | 77,251 mt.
2018 | 441,433 mt | 77,251 mt.
2019 | 441,433 mt | 77,251 mt.
2020 | 424,810 mt | 74,342 mt.
2021 | 369,400 mt | 64,645 mt.
2022 | 402,646 mt | 70,463 mt.
2023 | 461,750 mt | 80,806 mt.
2024 | 410,034 mt | 71,755 mt.

In 2009, NMFS, the States of Washington and Oregon, and the Treaty Tribes started a process to determine the long-term Tribal allocation for Pacific whiting. However, they have not yet determined a long-term allocation. This rule proposes the 2025 Tribal allocation of Pacific whiting. This allocation does not represent a long-term allocation and is not intended to set precedent for future allocations.

In exchanges between NMFS and the Treaty Tribes during September 2024, the Makah Tribe indicated their intent to participate in the Tribal Pacific whiting fishery in 2025. The Quinault Indian Nation, the Quileute Indian Tribe and the Hoh Indian Tribe informed NMFS that they will not participate in the 2025 fishery. Only the Makah Indian Tribe indicated its intent to fish and requested 17.5 percent of the U.S. Pacific whiting TAC, which is identical to the Tribal allocation percentage implemented in previous years. NMFS proposes an allocation that accommodates the Tribal request for 17.5 percent of the 2025 U.S. TAC.

The JMC is anticipated to recommend the coastwide and corresponding United States/Canada TACs no later than March 25, 2025. The U.S. TAC is 73.88 percent of the coastwide TAC. Until this TAC is set, NMFS cannot propose a specific amount for the Tribal allocation. The Pacific whiting fishery begins on May 1, and we expect to publish the final rule to set Pacific whiting specifications for 2025 by early May. Therefore, to allow for public input on the Tribal allocation, NMFS is issuing this proposed rule without the final 2025 TAC. However, to provide a basis for public input, NMFS is describing a range of potential Tribal allocations in this proposed rule by applying the proposed the Tribal allocation to a range of potential TACs derived from past harvest levels.

In order to project a range of potential Tribal allocations for 2025, we applied the proposed Tribal allocation of 17.5 percent to the range of U.S. TACs over the last 10 years, 2015 through 2024 (plus or minus 15 percent to capture variability in recommended TAC.). The range of U.S. TACs in the past 10 years period was 325,072 mt (2015) to 461,750 mt (2023) The maximum change in U.S. TAC in the last 5 years was a 13 percent decrease between 2020 and 2021 (424,810 mt to 369,400 mt), and a 15 percent increase between the years 2022 and 2023 (402,646 mt to 461,750 mt). Applying the 15 percent variability results in a range of potential TACs between 276,311 mt and 531,012 mt for 2025. Using the proposed Tribal allocation of 17.5 percent, the potential range of the Tribal allocations for 2025 would be between 48,354 mt and 92,927 mt. NMFS proposes to implement this action pursuant to regulations at 50 CFR 660.50.

Set-Asides for Research and Incidental Mortality in Non-Groundfish Fisheries

The U.S. non-Tribal whiting fishery is managed under the FMP. Each year, the Council recommends a set-aside to accommodate research activities and incidental mortality in non-groundfish fisheries based on estimates of scientific research catch and estimated bycatch mortality in non-groundfish fisheries. See 50 CFR 660.55(j). At its November 2024 meeting, the Council recommended a research and incidental mortality set-aside of 750 mt for 2025, which would be unchanged from 2024. NMFS concurs with this recommendation pending public comment, and this rule proposes a 750 mt set-aside.

In addition to the Tribal and incidental catch set-asides, each year NMFS establishes the 2025 U.S. TAC and 2025 non-Tribal fishery harvest guideline (HG) and distributes it to the non-Tribal sectors according to the commercial allocation structure in the FMP section 6.3.2.2 and regulations at 50 CFR 660.55(i)(2). To determine the non-Tribal fishery HG, the 2025 Tribal allocation and set-aside for research and incidental mortality are deducted from the total U.S. TAC. The HG is then allocated among the three non-Tribal sectors of the Pacific whiting fishery: The Catcher/Processor (C/P) Co-op Program, the Mothership (MS) Co-op Program and the Shorebased Individual Fishing Quota (IFQ) Program. The TAC recommendation and resulting non-Tribal commercial sector allocations are based on the Treaty-based JMC recommendation and are non-discretionary. The HG is not included in this proposed rule because NMFS, under the delegation of authority from the Secretary of Commerce and with concurrence from the Department of State, must approve or disapprove the 2025 overall TAC recommended by the JMC at a mid-March meeting. As such, NMFS is issuing this proposed rule before setting the HG and non-Tribal allocations in order to provide for public comment during a compressed rulemaking schedule prior to the fishery's opening on May 1.

Classification

This proposed rule would be implemented under the statutory and regulatory authority of sections 304(b) and 305(d) of the MSA, the Pacific Whiting Act of 2006, the regulations governing the groundfish fishery at 50 CFR 660.5 through 660.360, and other applicable laws. NMFS is using section 305(d) of the MSA for the Tribal allocation because in a previous action taken pursuant to section 304(b), the FMP and its implementing regulations authorize NMFS to take action pursuant to MSA section 305(d). The NMFS Assistant Administrator has determined that this proposed rule is consistent with sections 304(b)(1)(a) and 305(d) of the MSA, the Pacific Whiting Act of 2006, the regulations governing the groundfish fishery at 50 CFR 660.5 through 660.360, and other applicable laws, subject to further consideration after public comment. Additionally, pursuant to MSA section 305(d), this action is necessary to carry out Tribal allocations, set-asides, and regulations pursuant to FMP section 6.2.5 and 50 CFR 660.50(d)(1) because with this proposed rule, NMFS would ensure that the fishery is managed in a manner consistent with treaty rights of the four Treaty Tribes to fish in their “usual and accustomed grounds and stations” in common with non-Tribal citizens (United States v. Washington, 384 F. Supp. 313 (W.D. Wash. 1974)).

NMFS notes that the public comment period for this proposed rule is 15 days. Finalizing the Pacific whiting harvest specifications close to the start of the Pacific whiting fishing season on May 1st provides the industry with more time to plan and execute the fishery and gives them earlier access to the finalized allocations of Pacific whiting. A 15-day comment period best balances the interest in allowing the public adequate time to comment on the proposed measures with the benefits of implementing the set-aside management measures and setting Pacific whiting allocations in a timely manner. Although the non-Tribal allocations are not included in this proposed rule, those allocations are non-discretionary pursuant to the regulations governing the groundfish fishery at 50 CFR 660.55(i)(2). Timely implementation of this action will ensure the Tribal and non-Tribal commercial fishery sectors receive their full Pacific whiting allocations with sufficient time to maximize catch attainment within their respective fisheries during the 2025 whiting season. In making its final determination, NMFS will take into account the complete record, including comments received during the comment period for this proposed rule.

Pursuant to Executive Order 13175, this proposed rule was developed after meaningful consultation and collaboration with Tribal officials from the area covered by the FMP. Under the MSA at 16 U.S.C. 1852(b)(5), one of the voting members of the Pacific Council must be a representative of an Indian Tribe with federally recognized fishing rights from the area of the Council's jurisdiction. In addition, regulations implementing the FMP establish a procedure by which the Tribes with treaty fishing rights in the area covered by the FMP request allocations or regulations specific to the Tribes, in writing, before the first of the two meetings at which the Council considers groundfish management measures. The regulations at 50 CFR 660.50(d)(2) further state that the Secretary will develop Tribal allocations and regulations under this paragraph in consultation with the affected Tribe(s) and, insofar as possible, with Tribal consensus. The Tribal management measures in this proposed rule have been developed following these procedures.

The Office of Management and Budget has determined that this proposed rule is not significant for purposes of Executive Order 12866.

This proposed rule has been prepared in compliance with Executive Order 14192.

A range of potential total harvest levels for Pacific whiting has been considered in the Final Environmental Impact Statement for Harvest Specifications and Management Measures for 2015-2016 and Biennial Periods thereafter (2015/16 FEIS), and in the Environmental Assessment (EA) and the Regulatory Impact Review (RIR) included in the analytical document for Amendment 33 to the Pacific Coast Groundfish Fishery Management Plan and 2025-2026 Harvest Specifications and Management Measures. These documents are available from NMFS (see ADDRESSES).

NMFS prepared a final environmental impact statement (FEIS) for FMP Amendment 24; a notice of availability was published on January 16, 2015 (80 FR 2414). The 2015/16 FEIS examined the harvest specifications and management measures for 2015-16 and gave 10-year projections for routinely adjusted harvest specifications and management measures. The 10-year projections were produced to evaluate the impacts of the ongoing implementation of harvest specifications and management measures and to evaluate the impacts of the routine adjustments that are the main component of each biennial cycle. The EA for the 2025-26 cycle builds on the 2015/16 FEIS and focuses on the harvest specifications and management measures that were not within the scope of the 10-year projections in the 2015/16 FEIS.

An Initial Regulatory Flexibility Analysis (IRFA) was prepared for this action, as required by section 603 of the RFA. The IRFA describes the economic impact this proposed rule, if adopted, would have on small entities. A description of the action, why it is being considered, and the legal basis for this action is contained in the SUPPLEMENTARY INFORMATION section of the preamble. A summary of the IRFA follows. Copies of the IRFA are available from NMFS (See ADDRESSES).

Under the RFA, the term “small entities” includes small businesses, small organizations, and small governmental jurisdictions. For purposes of complying with the RFA, NMFS has established size criteria for entities involved in the fishing industry that qualify as small businesses. A business involved in fish harvesting is a small business if it is independently owned and operated and not dominant in its field of operation (including its affiliates) and if it has combined annual receipts not in excess of $11 million for all its affiliated operations worldwide (80 FR 81194, December 29, 2015; 50 CFR part 200). In addition, the Small Business Administration has established size criteria for other entities that may be affected by this proposed rule. A wholesale business servicing the fishing industry is a small business if it employs 100 or fewer persons on a full time, part time, temporary, or other basis, at all its affiliated operations worldwide (See NAICS code 424460 13 CFR 121.201). A seafood processor is a small business if it is independently owned and operated, not dominant in its field of operation, and employs 750 or fewer persons on a full time, part time, temporary, or other basis, at all its affiliated operations worldwide (See NAICS code 311710 at 13 CFR 121.201). For purposes of this rulemaking, NMFS is also applying the seafood processor standard to catcher/processors (C/Ps) because whiting C/Ps earn the majority of the revenue from processed seafood product.

Description and Estimate of the Number of Small Entities to Which the Rule Applies, and Estimate of Economic Impacts by Entity Size and Industry

This proposed rule affects how Pacific whiting is allocated to the following sectors/programs: Tribal, Shorebased IFQ Program Trawl Fishery, MS Co-op Program Whiting At-sea Trawl Fishery, and C/P Co-op Program Whiting At-sea Trawl Fishery. The amount of Pacific whiting allocated to these sectors is based on the U.S. TAC, which is developed and approved through the process set out in the Agreement and the Whiting Act.

We expect one Tribal entity, the Makah Tribe, to fish for Pacific whiting in 2025. Tribes are not considered small entities for the purposes of RFA. Impacts to Tribes are nevertheless considered in this analysis.

Although there are three non-Tribal sectors directly affected by this rule (the C/P Co-op Program, the Shorebased IFQ Program, and the MS Co-op Program), many companies participate in two sectors and some participate in all three sectors, as well as other non-whiting groundfish fisheries. For example, some companies may own permits in both the C/P and MS sectors, and own vessels capable of operating as either a C/P or an MS. Depending on the operational needs of the parent company in a given year, a C/P vessel may be assigned a permit to alternatively act as an MS. As part of the permit application processes for the non-Tribal fisheries, NMFS asks permit applicants if they considered themselves a small business based on a review of the Small Business Administration size criteria and asks each permit applicant to provide detailed ownership information. Data on employment worldwide, including affiliates, are not available for these companies, which generally operate in Alaska as well as on the West Coast in non-whiting groundfish fisheries and may have operations in other countries, as well. NMFS requests that limited entry permit holders self-report their size status. There is substantial, but not complete, overlap between permit ownership and vessel ownership, so there may be a small number of additional small entity vessel owners who will be impacted by this rule.

The C/P Co-op Program is composed of 10 C/P endorsed permits owned by 3 companies that have formed a single co-op. This co-op is considered a large entity both because it has participants that are large entities and because it has in total more than 750 employees worldwide including affiliates. For 2025, all 3 owners of the 10 C/P permits reported that they are not small businesses.

As of January 2025, the Shorebased IFQ Program is composed of 158 Quota Share permits/accounts (120 of which were allocated whiting quota pounds) and 39 licensed first receiver sites, of which 7 companies receive whiting. Of these companies that receive whiting, 6 are not considered small entities.

The MS Co-op Program is the limited access program that applies to eligible harvesters and processors in the MS sector of the Pacific whiting at-sea trawl fishery. In 2025 this program consists of 6 MS processor permits and a catcher vessel fleet currently composed of a single co-op with 33 Mothership/Catcher Vessel endorsed permits (with three permits each having two catch history assignments). For 2025, 8 permits in the MS Co-op reported that they are not small businesses.

After accounting for cross-fishery participation, multiple Quota Share account holders, and affiliation through ownership, NMFS estimates based on 2025 permit registration and quota share information that there are 100 non-Tribal entities directly affected by these proposed regulations, 86 of which are considered small entities.

This proposed rule, if adopted, will allocate Pacific whiting between Tribal and non-Tribal commercial harvesters (a mixture of small and large businesses). Tribal fisheries consist of a mixture of fishing activities that are similar to the activities that non-Tribal fisheries undertake. Tribal harvests may be delivered to both shoreside plants and motherships for processing. These processing facilities also process fish harvested by non-Tribal fisheries. The effect of the Tribal allocation on non-Tribal fisheries will depend on the level of Tribal harvests relative to their allocation and the reapportionment process as described in regulations at 50 CFR 660.131(h). If the Tribes do not harvest their entire allocation, there are opportunities during the year to reapportion unharvested Tribal amounts to the non-Tribal commercial fleets. For example, in 2024 NMFS reapportioned 45,000 mt of the original 71,755.95 mt Tribal allocation (89 FR 84302, October 22, 2024). This reapportionment was based on conversations with the Tribes and the best information available at the time, which indicated that this amount would not limit Tribal harvest opportunities for the remainder of the year. The reapportionment process allows unharvested Tribal allocations of Pacific whiting to be fished by the non-Tribal fleets, benefitting both large and small entities. The revised Pacific whiting allocations for 2024 following the reapportionment were: Tribal 26,755.95 mt, C/P Co-op 130,059.53 mt; MS Co-op 91,806.73 mt; and Shorebased IFQ Program 160,661.78 mt. The prices for Pacific whiting are largely determined by the world market because most of the Pacific whiting harvested in the United States is exported. The U.S. Pacific whiting TAC is highly variable, as are subsequent attainment of sector allocations and ex-vessel revenues.

Complete 2024 landing and revenue data for the commercial whiting sectors were unavailable at the time of publication of the IRFA. For the years 2013 to 2023, the U.S. non-Tribal commercial fishery sectors averaged harvests of approximately 262,531 mt and revenues of $52.7 million annually. The 2024 U.S. non-Tribal commercial fishery sectors attained a Pacific whiting catch of approximately 165,061 mt out of a harvest guideline of 337, 528 mt (48.9 percent attainment), resulting in a total revenue of $46.6 million. The Tribal fishery landed 1,541 mt out of the 2024 Tribal allocation of 71,755.95 mt.

Impacts to Tribal catcher vessels who elect to participate in the Tribal fishery are measured with an estimate of ex-vessel revenue. In lieu of more complete information on Tribal deliveries, total ex-vessel revenue is estimated with the 2024 average ex-vessel price of Pacific whiting, which was $230.91 per mt. At that price, the proposed 2025 Tribal allocation (potentially 48,354 mt-92,927 mt) would have an ex-vessel value between $17.4 and $21.4 million.

A Description of Any Significant Alternatives to the Proposed Rule That Accomplish the Stated Objectives of Applicable Statutes and That Minimize Any Significant Economic Impact of the Proposed Rule on Small Entities

For the Pacific whiting Tribal allocation, and set-asides for research and incidental mortality NMFS considered two alternatives: the “No Action” alternative and the “Proposed Action” alternative.

NMFS did not consider a broader range of alternatives to the proposed Tribal allocation because the Tribal allocation is a percentage of the U.S. TAC and is based primarily on the requests of the Tribes. These requests reflect the level of participation in the fishery that will allow the Tribes to exercise their treaty right to fish for Pacific whiting which NMFS must legally allow them to harvest. Under the Proposed Action alternative, NMFS would set the Tribal allocation percentage at 17.5 percent, as requested by the Makah Tribe. Using the proposed Tribal allocation of 17.5 percent and the potential range of U.S. TACs for 2025 would yield a Tribal allocation of between 48,354 mt and 92,927 mt. Consideration of a percentage lower than the Tribal request of 17.5 percent is not appropriate in this instance. NMFS has historically supported the harvest levels requested by the Tribe. Based on the information available to NMFS, the Tribal request is within their Tribal treaty rights. A higher percentage would arguably also be within the scope of the treaty right. However, a higher percentage would unnecessarily limit the non-Tribal fishery, and the proposed percentage is consistent with the Tribe's request.

Under the No Action alternative, NMFS would not make an allocation to the Tribal sector. This alternative was considered, but the regulatory framework provides for a Tribal allocation on an annual basis only. Therefore, the No Action alternative would result in no allocation of Pacific whiting to the Tribal sector in 2025, which would be inconsistent with NMFS' responsibility to manage the fishery consistent with the Tribes' treaty rights. Given that there is a Tribal request for allocation in 2025, this No Action alternative for allocation to the Tribal sector received no further consideration.

For set-asides for research and incidental mortality, the No Action alternative would mean that NMFS would not implement the set-aside amount of 750 mt recommended by the Council. Not implementing set-asides of the U.S. whiting TAC would mean incidental mortality of the fish in research activities and non-groundfish fisheries would not be accommodated. This would be inconsistent with the Council's recommendation, the FMP, the regulations setting the framework governing the groundfish fishery, and NMFS' responsibility to manage the fishery and prevent overfishing. Therefore, the No Action alternative for set-asides received no further consideration.

Regulatory Flexibility Act Determination of No Significant Impact

NMFS has preliminarily determined this proposed rule would not have a significant economic impact on small entities. This proposed rule is similar to previous rulemakings concerning Pacific whiting and concerns the amount of the U.S. TAC that should be allocated to the Tribal fishery and a set-aside for research and bycatch in non-groundfish fisheries for 2025. Following a coastwide TAC recommendation, Pacific whiting allocations to the non-Tribal sectors are expected provide additional economic opportunity to the entities considered in this analysis to prosecute a quota species within a multi-species groundfish catch share program. In addition, the reapportioning process allows unharvested Tribal allocations of Pacific whiting, fished by small entities, to be fished by the non-Tribal fleets, potentially providing economic benefits to both large and small entities. Based on the analysis above, this proposed rule, if finalized, would not adversely affect small entities and would not have a significant economic impact on small entities. Nonetheless, NMFS has prepared an IRFA and is requesting comments on this conclusion.

NMFS has prepared the IRFA, as described above, and is requesting comments on this conclusion. See ADDRESSES.

This proposed rule contains no information collection requirements under the Paperwork Reduction Act of 1995.

No Federal rules have been identified that duplicate, overlap, or conflict with this action.

List of Subjects in 50 CFR Part 660

Fisheries, Fishing, Indian fisheries.

Dated: April 9, 2025.
Samuel D. Rauch, III,
Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(17) to read as follows:

§ 660.50 Pacific Coast treaty Indian fisheries.

* * * * *

(f) * * *

(17) Pacific whiting. The Tribal allocation for 2025 will be 17.5 percent of the U.S. TAC.

* * * * *

3. Amend table 1a to part 660, subpart C-2025, Specifications of OFL, ABC, ACL, ACT and Fishery HG, by revising the entry for “Pacific Whiting” and its footnote to read as follows:

Table 1a to Part 660, Subpart C—2025, Specifications of OFL, ABC, ACL, ACT and Fishery HG
Table 1a to Part 660, Subpart C—2025, Specifications of OFL, ABC, ACL, ACT and Fishery HG (Weights in Metric Tons). Capitalized stocks are rebuilding.
Species/stocks | Area | OFL | ABC | ACL ᵃ | Fishery HG ᵇ
* * * * * * *
Pacific Whiting ᵈ | Coastwide | (ᵈ) | (ᵈ) | (ᵈ) | (ᵈ)
* * * * * * *
* * * * * * *
ᵈ Pacific whiting are assessed annually. The final specifications will be determined consistent with the U.S.-Canada Pacific Whiting Agreement. The U.S. TAC is 73.88 percent of the coastwide TAC. From the U.S. TAC, 17.5 percent is deducted to accommodate the Tribal fishery, and 750 mt is deducted to accommodate research and bycatch in other fisheries.
* * * * * * *

[FR Doc. 2025-06346 Filed 4-14-25; 8:45 am]

BILLING CODE 3510-22-P